DEPARTMENT OF COMMERCE

International Trade Administration

[A-580-914]

Certain Superabsorbent Polymers From the Republic of Korea: Notice of Court Decision Not in Harmony With the Final Determination of Antidumping Duty Investigation; Notice of Amended Final Determination; Notice of Amended Antidumping Duty Order

AGENCY: Enforcement and Compliance, International Trade Administration, Department of Commerce.

SUMMARY: On December 17, 2024, the U.S. Court of International Trade (CIT) issued its final judgment in Ad Hoc Coalition of American SAP Producers v. United States, Court No. 23-00010, sustaining the U.S. Department of Commerce's (Commerce) final remand redetermination pertaining to the less-than-fair-value (LTFV) investigation of certain superabsorbent polymers (SAP) from the Republic of Korea (Korea) covering the period of investigation October 1, 2020, through September 30, 2021. Commerce is notifying the public that the CIT's final judgment is not in harmony with Commerce's final determination in that investigation, and that Commerce is amending the final determination and the resulting antidumping duty (AD) order with respect to the dumping margins assigned to LG Chem, Ltd. (LGC) and all other producers and exporters of subject merchandise.

DATES: Applicable December 27, 2024.

FOR FURTHER INFORMATION CONTACT: Charles DeFilippo, AD/CVD Operations, Office VII, Enforcement and Compliance, International Trade Administration, U.S. Department of Commerce, 1401 Constitution Avenue NW, Washington, DC 20230; telephone: (202) 482-3797.

SUPPLEMENTARY INFORMATION:

Background

On October 27, 2022, Commerce published its Final Determination in the LTFV investigation of SAP from Korea.¹ In its Final Determination, Commerce revised the model match hierarchy of the physical characteristics of the subject merchandise to use LGC's proposed centrifugal retention capacity (CRC) characteristic reporting of 4 g/g increments, and to include LGC's proposed two additional characteristics (absorbency under pressure (AUP) and permeability (PERM)) based on its finding that the alternative CRC increments and inclusion of AUP and PERM were commercially significant.² Commerce subsequently published the AD order on SAP from Korea.³

¹ See Certain Superabsorbent Polymers From the Republic of Korea: Final Determination of Sales at Less Than Fair Value, 87 FR 65035 (October 27, 2022) (Final Determination), and accompanying Issues and Decision Memorandum (IDM).

² See Final Determination IDM at 3-14.

³ See Certain Superabsorbent Polymers from the Republic of Korea: Antidumping Duty Order, 87 FR 77794 (December 20, 2022).

The Ad Hoc Coalition of American SAP Producers (Coalition) appealed Commerce's Final Determination. On March 1, 2024, the CIT remanded the Final Determination to Commerce to: (1) reconsider or further explain the commercial significance of the characteristics adopted into Commerce's model match hierarchy when compared to those adopted in the preliminary determination, in particular narrower 4 g/g ranges for CRC, as well as AUP and PERM, which the CIT held to be unsupported by substantial evidence in the final determination; (2) further explain whether and to what extent Commerce verified the alternative sales and cost information upon which it relied in the final determination; and (3) address the Coalition's concern that LGC's defined characteristics created a possibility of manipulation, which could result in a distorted dumping margin.⁴

⁴ See Ad Hoc Coalition of American SAP Producers v. United States, Court No. 23-00010, Slip Op. 24-26 (CIT March 1, 2024).

In its final remand redetermination, issued in June 2024, Commerce determined that there is no additional information on the record that would support the finding that narrower 4 g/g ranges for CRC and the inclusion of AUP and PERM are commercially significant and should be included in the model match hierarchy.⁵ As a result, Commerce revised the model match hierarchy to only include CRC in 6 g/g increments. Further, because Commerce revised the model match hierarchy, it did not address the CIT's concerns regarding whether Commerce sufficiently verified the alternative cost and sales data upon which it relied in its final determination or further consider the issue of potential manipulation using the model match hierarchy put forth by LGC (i.e., including AUP, PERM, and CRC at 4 g/g increments).⁶ The CIT sustained Commerce's final redetermination.⁷

⁵ See Final Results of Redetermination Pursuant to Court Remand, The Ad Hoc Coalition of American SAP Producers v. United States, Court No. 23-00010, Slip Op. 24-00026 (CIT March 1, 2024), dated June 14, 2024.

⁶ Id.

⁷ See Ad Hoc Coalition of American SAP Producers v. United States, Court No. 23-00010, Slip Op. 24-141 (CIT December 17, 2024).

Timken Notice

In its decision in Timken,⁸ as clarified by Diamond Sawblades,⁹ the U.S. Court of Appeals for the Federal Circuit held that, pursuant to sections 516A(c) and (e) of the Tariff Act of 1930, as amended (the Act), Commerce must publish a notice of court decision that is not “in harmony” with a Commerce determination and must suspend liquidation of entries pending a “conclusive” court decision. The CIT's December 17, 2024, judgment constitutes a final decision of the CIT that is not in harmony with Commerce's Final Determination. Thus, this notice is published in fulfillment of the publication requirements of Timken.

⁸ See Timken Co. v. United States, 893 F.2d 337 (Fed. Cir. 1990) (Timken).

⁹ See Diamond Sawblades Manufacturers Coalition v. United States, 626 F.3d 1374 (Fed. Cir. 2010) (Diamond Sawblades).

Amended Final Determination

Because there is now a final court judgment, Commerce is amending its Final Determination with respect to LGC and all other producers and exporters as follows:

Exporter/producer | Weighted- average dumping margin (percent)
LG Chem, Ltd | 26.05
All Others | 26.05

Amended AD Order

Pursuant to section 735(c)(2) of the Act, Commerce shall “issue an antidumping duty order under section 736” of the Act when the final determination is affirmative. As a result of this amended final determination, Commerce is hereby amending the Order to revise the weighted-average dumping margins assigned to LGC and all-other producers and exporters of subject merchandise, as noted above.

Cash Deposit Requirements

Because LGC does not have a superseding cash deposit rate, i.e., there have been no final results published in a subsequent administrative review, and because of the change to the rate assigned to all other producers and exporters of subject merchandise, Commerce will issue revised cash deposit instructions to U.S. Customs and Border Protection.

Notification to Interested Parties

This notice is issued and published in accordance with sections 516A(c) and (e) and 777(i)(1) of the Act.

Dated: December 27, 2024.
Abdelali Elouaradia,
Deputy Assistant Secretary for Enforcement and Compliance.

[FR Doc. 2024-31591 Filed 1-2-25; 8:45 am]

BILLING CODE 3510-DS-P